DEPARTMENT OF THE INTERIOR

Office of the Secretary

[167 A2100DD/AAKC001030/A0A501010.999900]

Tribal Consultation and Listening Sessions on Indian Trust Asset Reform Act

AGENCIES: Office of the Secretary, Interior.

ACTION: Notice.

SUMMARY: The Department of the Interior (Interior) is hosting a listening session and tribal consultation sessions with Indian Tribes, appropriate Indian organizations, and individual Indians on the implementation of Title III of the Indian Trust Asset Reform Act recently passed by Congress. Topics to be addressed in these sessions include the establishment of an Under Secretary for Indian Affairs, the transition of certain functions of the Office of the Special Trustee for American Indians (OST) to other entities within Interior, the identification of options for a single entity to conduct appraisals and valuations of Indian trust property, and draft minimum qualifications for individuals to prepare appraisals and valuations of Indian trust property.

DATES: Please see the SUPPLEMENTARY INFORMATION section of this notice for dates of the listening sessions and tribal/individual Indian consultation sessions. Written comments are due by September 30, 2016.

ADDRESSES: Please submit written comments by email to OST_ITARA@ost.doi.gov. If you do not have access to email, please send a hard copy to the following address, but please do not send a duplicate hard copy if you have emailed a copy: Ms. Elizabeth Appel, Office of the Assistant Secretary—Indian Affairs, 1849 C Street NW., MS 3642, Washington, DC 20240. Please see the SUPPLEMENTARY INFORMATION section of this notice for locations of the listening sessions and Tribal/individual Indian consultation sessions.

FOR FURTHER INFORMATION CONTACT: Ms. Debra DuMontier, Office of the Special Trustee for American Indians at debra_dumontier@ost.doi.gov or (505) 816-1131 or Ms. Elizabeth Appel, Office of the Assistant Secretary—Indian Affairs at elizabeth.appel@bia.gov or (202) 273-4680.

SUPPLEMENTARY INFORMATION: On June 22, 2016, President Obama signed into law the Indian Trust Asset Reform Act, Public Law 114-178. Title III of this Act:

• Allows the Secretary of the Interior to establish an Under Secretary for Indian Affairs who is to report directly to the Secretary of the Interior and coordinate with OST to ensure an orderly transition of OST functions to an agency or bureau within Interior;

• Requires Interior to prepare a transition plan and timetable for how identified OST functions might be moved to other entities within the Department of the Interior;

• Requires appraisals and valuations of Indian trust property to be administered by a single administrative entity within Interior; and

• Requires Interior to establish minimum qualifications for individuals to prepare appraisals and valuations of Indian trust property and allows an appraisal or valuation that meets those minimum qualifications to be considered final without being reviewed or approved by Interior under certain conditions.

The Department is hosting listening sessions and consultation sessions with Indian tribes and individual Indians on each of the topics identified above on the following dates and in certain locations. More specific information on the location identifying the venue will be posted as soon as it becomes available at www.doi.gov/OST/ITARA.

Date | Time (All times local) | Listening sessions/ Tribal consultation sessions | Location
Wednesday 8/17/2016 | 1:00 p.m.-4:00 p.m. | Listening Session (in conjunction with the Indian Land Working Group 2016 Symposium) | Oneida Tribe of Indians of Wisconsin, Radisson Hotel and Conference Center, Airport Drive, Green Bay, WI 54313.
Monday 8/22/2016 | 8:30 a.m.-12:30 p.m. | Tribal Consultation | U.S. Forest Service, 4000 Masthead St. NE., Albuquerque, NM 87109.
Friday, 8/26/2016 | 8:30 a.m.-12:30 p.m. | Tribal Consultation | Minneapolis, MN.
Monday 8/29/2016 | 8:30 a.m.-12:30 p.m. | Tribal Consultation | Henry M. Jackson Federal Building, 915 2nd Avenue, Seattle, WA 98104.
Wednesday 8/31/2016 | 8:30 a.m.-12:30 p.m. | Tribal Consultation | Billings, MT.
Wednesday 9/7/2016 | 8:30 a.m.-12:30 p.m. | Tribal Consultation | Tulsa, OK.
Friday 9/9/2016 | 8:30 a.m.-12:30 p.m. | Tribal Consultation | Sioux Falls, SD.
Monday 9/12/2016 | 8:30 a.m.-12:30 p.m. | Tribal Consultation | Palm Springs, CA.
Monday 9/19/2016 | 1:30 p.m.-3:30 p.m. | Tribal Consultation, Teleconference | (888) 282-0365, passcode: 9342929.

Additional information, including possible OST functions that may be transferrable to other entities within the Department and potential options for a single entity within the Department that might perform appraisal and valuation services for Indian trust property, is also available at the Web site listed above (www.doi.gov/OST/ITARA).

Dated: July 13, 2016.
Michael L. Connor,
Deputy Secretary.

[FR Doc. 2016-17166 Filed 7-19-16; 8:45 am]

BILLING CODE 4337-15-P